ENVIRONMENTAL PROTECTION AGENCY

[EPA-HQ-OW-2008-0150; FRL-9932-70-OW]

Proposed Information Collection Request; Comment Request; Establishing No-Discharge Zones (NDZs) Under Clean Water Act § 312 (Renewal)

AGENCY: Environmental Protection Agency (EPA).

ACTION: Notice.

SUMMARY: The Environmental Protection Agency plans to submit an information collection request (ICR), “Establishing No-Discharge Zones (NDZs) Under Clean Water Act § 312 (Renewal)” (EPA ICR No. 1791.07, OMB Control No. 2040-0187) to the Office of Management and Budget (OMB) for review and approval in accordance with the Paperwork Reduction Act (PRA) (44 U.S.C. 3501 et seq.). Before doing so, EPA solicits public comments on specific aspects of the proposed information collection as described below. This is a proposed extension of the ICR, which is currently approved through December 31, 2015. An Agency may not conduct or sponsor and a person is not required to respond to a collection of information unless it displays a currently valid OMB control number.

DATES: Comments must be submitted on or before October 19, 2015.

ADDRESSES: Submit your comments, referencing Docket ID No. EPA-HQ-OW-2008-0150, online using www.regulations.gov (our preferred method), by email to OW-Docket@epa.gov or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI), or other information whose disclosure is restricted by statute.

FOR FURTHER INFORMATION CONTACT: Virginia Fox-Norse, Oceans and Coastal Protection Division, Office of Wetlands, Oceans and Watersheds, (4504T), Environmental Protection Agency, 1200 Pennsylvania Ave. NW., Washington, DC 20460; telephone number: 202-566-1266; fax number: 202-566-1337; email address: fox-norse.virginia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA solicits comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology (e.g., permitting electronic submission of responses). EPA will consider the comments received and amend the ICR as appropriate. The final ICR package will then be submitted to OMB for review and approval. At that time, EPA will issue another Federal Register notice to announce the submission of the ICR to OMB and the opportunity to submit additional comments to OMB.

Abstract: (A) Sewage No-discharge Zones: The need for EPA to obtain information for, or to support, the establishment of no-discharge zones (NDZs) for vessel sewage in state waters stems from CWA sections 312(f)(3), (f)(4)(A), and (f)(4)(B), and implementing regulations at 40 CFR 140.4. No-discharge zones are established to provide greater environmental protection of specified state waters from treated and untreated vessel sewage. This ICR addresses the information requirements associated with the establishment of NDZs for vessel sewage. The information collection activities discussed in this ICR do not require the submission of any confidential information.

(B) UNDS No-discharge Zones: Under section 312(n) of the Clean Water Act (“Uniform National Discharge Standards for Vessels of the Armed Forces” or “UNDS”) no-discharge zones (“NDZs”) for discharges from Armed Forces vessels may be established by either state prohibition or EPA prohibition following the procedures in 40 CFR part 1700. UNDS also provides that the Governor of any state may petition EPA and the Secretary of Defense to review any determination or standard promulgated under the UNDS program if there is significant new information that could reasonably result in a change to the determination or standard. This ICR discusses the information that is required from a state if it decides (1) to establish a NDZ by state prohibition or (2) to apply for a NDZ by EPA prohibition for the UNDS discharges for which EPA and DOD have determined that it is not reasonable or practicable to require a Marine Pollution Control Device to mitigate adverse effects on the marine environment. 40 CFR 1700.5. The ICR also discusses the information that is required from a state to submit a petition for review of EPA and DOD determinations that it is not reasonable or practicable to require a Marine Pollution Control Device for a particular UNDS discharge identified at 40 CFR 1700.5. NDZs for UNDS discharges that do require a Marine Pollution Control Device will not become applicable until after EPA and DOD promulgate performance standards for such Marine Pollution Control Devices, and after DOD promulgates regulations governing the design, construction, installation and use of Marine Pollution Control Devices to meet achieve the performance standards. The information collection activities discussed in this ICR do not require the submission of any confidential information.

Form Numbers: None.

Respondents/affected entities: States.

Respondent's obligation to respond: The responses to this collection of information are required to obtain the benefit of a sewage NDZ (CWA sections 312(f)(3), (f)(4)(A), and (f)(4)(B), and subsequent regulations at 40 CFR 140.4. The responses to this collection of information are required to obtain the benefit of an UNDS NDZ or a review of an UNDS determination or standard (see 33 U.S.C. 1322(n)).

Estimated number of respondents: 16 (total).

Frequency of response: One time.

Total estimated burden: 2266 hours (per year). Burden is defined at 5 CFR 1320.03(b).

Total estimated cost: $108,622 (per year), includes $2,300 annualized capital or operation & maintenance costs.

Changes in Estimates: EPA expects that the burden hours will stay the same as the current estimate for this ICR extension. Cost estimates will likely remain the same or rise when EPA revises them for this ICR extension because of changes in the state and federal labor costs.

Dated: August 13, 2015.
Benita Best-Wong,
Director, Office of Wetlands, Oceans and Watersheds.

[FR Doc. 2015-20508 Filed 8-18-15; 8:45 am]

BILLING CODE 6560-50-P